DEPARTMENT OF VETERANS AFFAIRS

[OMB Control No. 2900-0011]

Agency Information Collection: Application for Reinstatement—Insurance Lapsed More Than 6 Months (29-352) and Application for Reinstatement—Non Medical Comparative Health Statement (29-353)

AGENCY: Veterans Benefits Administration, Department of Veterans Affairs.

ACTION: Notice.

Activity: Under OMB Review.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before November 7, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0011” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0011.”

SUPPLEMENTARY INFORMATION: Title: Application for Reinstatement—Insurance Lapsed More Than 6 Months (29-352).

Application for Reinstatement—Non Medical Comparative Health Statement (29-353).

OMB Control Number: 2900-0011.

Type of Review: Revision of a currently approved collection.

Abstract: These forms are used by veterans who are requesting a reinstatement of their lapsed life insurance policies. The information requested on the forms is required by law, 38 U.S.C. Sections 6.79 and 8.22.

An agency may not conduct or sponsor, and a person is not required to respond to a collection of information unless it displays a currently valid OMB control number. The Federal Register Notice with a 60-day comment period soliciting comments on this collection of information was published at Vol. 81, No. 170, Thursday, September 1, 2016.

Affected Public: Individuals or households.

Estimated Annual Burden: 1,125 hours.

Estimated Average Burden per Respondent: 22.5 minutes.

Frequency of Response: On occasion.

Estimated Number of Respondents: 3000.

By direction of the Secretary.
Cynthia Harvey-Pryor,
Program Specialist, Office of Privacy and Records Management, Department of Veterans Affairs.

[FR Doc. 2016-24164 Filed 10-5-16; 8:45 am]

BILLING CODE 8320-01-P